DEPARTMENT OF ENERGY

Federal Energy Regulatory Commission

Combined Notice of Filings #1

Take notice that the Commission received the following electric rate filings:

Docket Numbers: ER10-2564-003; ER10-2289-003; ER10-2600-003.

Applicants: UNS Electric, Inc., Tucson Electric Power Company, UniSource Energy Development Company.

Description: Response to Request for Additional Information of Tucson Electric Power Company, et al.

Filed Date: 8/25/14.

Accession Number: 20140825-5069

Comments Due: 5 p.m. ET 9/15/14.

Docket Numbers: ER13-1422-006.

Applicants: Ebensburg Power Company.

Description: Notice of Non-Material Change in Status of Ebensburg Power Company.

Filed Date: 8/22/14.

Accession Number: 20140822-5184.

Comments Due: 5 p.m. ET 9/12/14.

Docket Numbers: ER14-2187-003.

Applicants: Grand Ridge Energy Storage LLC.

Description: Tariff Amendment per 35.17(b): Third Supplement to Market-Based Rate Application to be effective 8/16/2014.

Filed Date: 8/25/14.

Accession Number: 20140825-5082.

Comments Due: 5 p.m. ET 9/15/14.

Docket Numbers: ER14-2697-000.

Applicants: PJM Interconnection, L.L.C.

Description: § 205(d) rate filing per 35.13(a)(2)(iii): Amendments to Schedule 12—Appendix A re RTEP approved by PJM Board on 7/23/2014 to be effective 11/20/2014.

Filed Date: 8/22/14.

Accession Number: 20140822-5157.

Comments Due: 5 p.m. ET 9/12/14.

Docket Numbers: ER14-2698-000.

Applicants: ITC Midwest LLC.

Description: § 205(d) rate filing per 35.13(a)(2)(iii): Filing of a Joint Use Agreement with Guthrie County REC to be effective 8/26/2014.

Filed Date: 8/25/14.

Accession Number: 20140825-5129.

Comments Due: 5 p.m. ET 9/15/14.

Docket Numbers: ER14-2699-000.

Applicants: PJM Interconnection, L.L.C.

Description: § 205(d) rate filing per 35.13(a)(2)(iii): Wholesale Market Participation Agreement No. 3252, Queue No. W4-031 to be effective 7/24/2014.

Filed Date: 8/25/14.

Accession Number: 20140825-5136.

Comments Due: 5 p.m. ET 9/15/14.

Take notice that the Commission received the following electric securities filings:

Docket Numbers: ES14-49-000.

Applicants: MDU Resources Group, Inc.

Description: Application for authorization to issue securities of MDU Resources Group, Inc.

Filed Date: 8/22/14.

Accession Number: 20140822-5185.

Comments Due: 5 p.m. ET 9/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2014.
Nathaniel J. Davis, Sr.,
Deputy Secretary.

[FR Doc. 2014-20849 Filed 9-2-14; 8:45 am]

BILLING CODE 6717-01-P